DEPARTMENT OF ENERGY

Federal Energy Regulatory Commission

Combined Notice of Filings

Take notice that the Commission has received the following Natural Gas Pipeline Rate and Refund Report filings:

Docket Number: CP20-497-000.

Applicants: Transcontinental Gas Pipe Line Company.

Description: Abbreviated Application for Partial Abandonment of Firm Transportation Service of Transcontinental Gas Pipe Line Company, LLC under CP20-497.

Filed Date: 07/21/2020.

Accession Number: 20200721-5160.

Comments Due: 08/11/2020.

Docket Number: CP20-499-000.

Applicants: National Fuel Gas Supply Corporation.

Description: Application to Abandon a Certificated National Fuel Gas Supply Corporation Service of National Fuel Gas Supply Corporation under CP20-499.

Filed Date: 07/21/2020.

Accession Number: 20200722-5059.

Comments Due: 08/11/2020.

Docket Numbers: RP20-998-001.

Applicants: Columbia Gulf Transmission, LLC.

Description: Compliance filing TRA 2020 to be effective 8/1/2020.

Filed Date: 7/23/20.

Accession Number: 20200723-5079.

Comments Due: 5 p.m. ET 7/29/20.

Docket Number: RP20-1019-001.

Applicants: Midwestern Gas Transmission Company.

Description: Midwestern Gas Transmission Company submits tariff filing per 154.205(b): Amendment Operational Flow Orders to be effective 8/8/2020 under RP20-1019 Availability.

Filed Date: 7/23/2020.

Accession Number: 20200723-5109.

Comments Due: 5 p.m. ET 7/29/20.

Docket Number: PR20-71-000.

Applicants: NorthWestern Corporation.

Description: Tariff filing per 284.123(b), (e): Revised Transportation and Storage Rates (Amended Tax Tracker) to be effective 7/1/2020.

Filed Date: 7/23/2020.

Accession Number: 202007235031.

Comments Due: 5 p.m. ET 7/29/20.

Docket Numbers: RP20-1034-000.

Applicants: Cimarron River Pipeline, LLC.

Description: § 4(d) Rate Filing: Negotiated Rates 7-23-2020 to be effective 7/24/2020.

Filed Date: 7/23/20.

Accession Number: 20200723-5032.

Comments Due: 5 p.m. ET 8/4/20.

Docket Numbers: RP20-1035-000.

Applicants: Rockies Express Pipeline LLC.

Description: § 4(d) Rate Filing: REX 2020-07-23 Negotiated Rate Agreements to be effective 7/23/2020.

Filed Date: 7/23/20.

Accession Number: 20200723-5102.

Comments Due: 5 p.m. ET 8/4/20.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 24, 2020.
Nathaniel J. Davis, Sr.,
Deputy Secretary.

[FR Doc. 2020-16519 Filed 7-29-20; 8:45 am]

BILLING CODE 6717-01-P